DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 18, 2023 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 7 CFR part 235—State Administrative Expense (SAE) Funds.

OMB Control Number: 0584-0067.

Summary of Collection: The authority for this collection is provided in Sections 7 and 10 of the Child Nutrition Act of 1966, 80 Stat. 888, 889, as amended (42 U.S.C. 1776, 1779). As required, the Food and Nutrition Service (FNS) issued regulations in 7 CFR part 235, which prescribes the methods for making payments of funds to State agencies to use for administrative expenses incurred in overseeing and providing technical assistance in connection with activities undertaken under the National School Lunch Program (NSLP), the Special Milk Program (SMP), the School Breakfast Program (SBP), the Child and Adult Care Food Program (CACFP), and the Food Distribution Program (FDP). This information collection is required to administer these Programs in accordance with the Act. For this revision, FNS has revised the FNS-525 form to eliminate data fields which collect data that can be obtained from the FNS financial data systems. FNS expects that these revisions will reduce the burden hours for this collection.

Need and Use of the Information: This is a mandatory information collection. Under this collection, FNS collects the information necessary for making payments of funds to State agencies to use for the administrative expenses incurred in overseeing and providing technical assistance in connection with the activities undertaken by them under the NSLP, SMP, SBP, CACFP, and the FDP. The Federal regulations in 7 CFR part 235 SAE Funds require the collection of information associated with this collection. The respondents for this collection are the State educational agencies and the alternate State agencies that have agreements with FNS for the administration of the various programs. This information is collected through written agreements that cover the operation of the Program during a specified period; State Administrative Expense plans that outline funding and activities; State Administrative Expense Funds Reallocation Reports that describe the use of SAE funds and which are used to reallocate SAE funds; and annual reports containing information on the number of School Food Authorities (SFAs) under agreement with the State agency to participate in the National School Lunch or Commodity School Programs. Under this collection, the State agencies also maintain current accounting records of State administrative expense funds which identify fund authorizations, obligations, unobligated balances, assets, liabilities, outlays, and income.

Description of Respondents: State, Local, or Tribal Government.

Number of Respondents: 83.

Frequency of Responses: Recordkeeping; Reporting: Annually.

Total Burden Hours: 6,306.

Ruth Brown,
Departmental Information Collection Clearance Officer.

[FR Doc. 2022-27409 Filed 12-16-22; 8:45 am]

BILLING CODE 3410-30-P